DEPARTMENT OF ENERGY

Federal Energy Regulatory Commission

Notice of Application for Amendment of License and Soliciting Comments, Motions To Intervene, and Protests

January 29, 2001.

Take notice that the following hydroelectric application has been filed with the Commission and is available for public inspection:

a. Type of Filing: Amendment of license to remove the 20.23-mile-long section of the jurisdictional Lolo-Oxbow Transmission Line from the Project No. 1971 license and include that transmission line in the Project No. 2261 license.

b. Projects Nos: 1971-070 and 2261-002.

c. Date Filed: November 20, 2000.

d. Applicants: Idaho Power Company Avista Corporation.

e. Names of Projects: Hells Canyon Lolo-Divide Creek Transmission Line (minor part).

f. Location: The Hells Canyon Project is located on the Snake River, in Baker County, Oregon, and Adams County, Idaho, and the Lolo-Divide Creek Transmission Line Project is located in Nez Perce and Idaho Counties, Idaho. The 20.23-mile-long section of the Lolo-Oxbow Transmission Line is located in Nez Perce County, Oregon.

g. Filed Pursuant to: Federal Power Act 16 U.S.C. §§ 791(a)-825(r), Section 4.201 of the Commission's Regulations.

h. Applicant Contact for Idaho Power Company: Robert W. Stahman, Vice President, Secretary, and General Counsel, Idaho Power Company, 1221 West Idaho St., P.O. Box 70, Boise, ID 83707, (208) 388-2676.

i. Applicant Contact for Avista Corp.: Steven A. Fry, Avista Corporation, P.O. Box 3727, Spokane, WA 99220-3727, (509) 495-4084; William Madden, Jr., Winston & Strawn, 1400 L. St., NW., Washington, DC 20005-3502.

j. FERC Contact: William Guey-Lee, (202) 219-2808, or william.gueylee@ferc.fed.us.

k. Deadline for filing comments, motions to intervene or protests: March 8, 2001.

All documents (original and eight copies) should be filed with: David Boergers, Secretary, Federal Energy Regulatory Commission, 888 First Street, NE., Washington, DC 20426. Comments and protests may be filed electronically via the Internet in lieu of paper. See, 18 CFR 385.2001(a)(1)(iii) and the instructions on the Commission's web site at http://www.ferc.fed.us/efi/doorbell.htm

1. Description of Project: The applicants are requesting Commission approval to delete the 20.23-mile-long section of the Lolo-Oxbow Transmission Line from the license for Project No. 1971, and to add it to the license for Project No. 2261. On December 18, 2000, the Commission approved the sale of the above section of the transmission line from Idaho Power Company to Avista Corporation.

m. Location of the Filing: A copy of the filing is available for inspection and reproduction at the Commission's Public Reference Room, located at 888 First Street, NE., Room 2A, Washington, DC 20426, or by calling (202) 208-1371. This filing may be viewed on http://www.ferc.fed.us/online/rims.htm [call (202) 208-2222 for assistance]. A copy is also available for inspection and reproduction at the address in items h and i above.

n. Individuals desiring to be included on the Commission's mailing list should so indicate by writing to the Secretary of the Commission.

o. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

p. Filing and Service of Responsive Documents—Any filings must bear in all capital letters the title “COMMENTS” “PROTEST”, OR “MOTION TO INTERVENE”, as applicable, and the Project Number of the particular application to which the filing refers. Any of the above-named documents must be filed by providing the original; and the number of copies provided by the Commission's regulations to: The Secretary, Federal Energy Regulatory Commission, 888 First Street, NE., Washington, DC 20426. A copy of any motion to intervene must also be served upon each representative of the Applicant specified in the particular application.

q. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-2842 Filed 2-1-01; 8:45 am]

BILLING CODE 6717-01-M